DEPARTMENT OF THE INTERIOR

Fish and Wildlife Service

[Docket No. FWS-HQ-IA-2018-0086; FXIA16710900000-178-FF09A30000]

Foreign Endangered Species; Marine Mammals; Receipt of Permit Applications

AGENCY: Fish and Wildlife Service, Interior.

ACTION: Notice of receipt of permit applications.

SUMMARY: We, the U.S. Fish and Wildlife Service (Service), invite the public to comment on applications to conduct certain activities with foreign species that are listed as endangered under the Endangered Species Act (ESA) and foreign or native species for which the Service has jurisdiction under the Marine Mammal Protection Act (MMPA). With some exceptions, the ESA and the MMPA prohibit activities with listed species unless Federal authorization is issued that allows such activities. The ESA and MMPA also require that we invite public comment before issuing permits for endangered species or marine mammals.

DATES: We must receive comments by January 3, 2019.

ADDRESSES:

Obtaining Documents: The applications, application supporting materials, and any comments and other materials that we receive will be available for public inspection at http://www.regulations.gov in Docket No. FWS-HQ-IA-2018-0086.

Submitting Comments: When submitting comments, please specify the name of the applicant and the permit number at the beginning of your comment. You may submit comments by one of the following methods:

• Internet: http://www.regulations.gov. Search for and submit comments on Docket No. FWS-HQ-IA-2018-0086.

• U.S. mail or hand-delivery: Public Comments Processing, Attn: Docket No. FWS-HQ-IA-2018-0086; U.S. Fish and Wildlife Service Headquarters, MS: BPHC; 5275 Leesburg Pike; Falls Church, VA 22041-3803.

For more information, see Public Comment Procedures under SUPPLEMENTARY INFORMATION.

FOR FURTHER INFORMATION CONTACT: Monica Thomas, by phone at 703-358-2104, via email at DMAFR@fws.gov, or via the Federal Relay Service at 800-877-8339.

SUPPLEMENTARY INFORMATION:

I. Public Comment Procedures

A. How do I comment on submitted applications?

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments on http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(a)(1)(A) of the Endangered Species Act of 1973, as amended (ESA; 16 U.S.C. 1531 et seq.), and section 104(c) of the Marine Mammal Protection Act of 1972, as amended (MMPA; 16 U.S.C. 1361 et seq.), we invite public comments on permit applications before final action is taken. With some exceptions, the ESA and MMPA prohibit activities with listed species unless Federal authorization is issued that allows such activities. Permits issued under section 10 of the ESA allow activities for scientific purposes or to enhance the propagation or survival of the affected species. Regulations regarding permit issuance under the ESA are in title 50 of the Code of Federal Regulations in part 17. ESA permits cover a wide range of activities pertaining to foreign listed species, including import, export, and activities in the United States. Concurrent with publishing this notice in the Federal Register, we are forwarding copies of the marine mammal applications to the Marine Mammal Commission and the Committee of Scientific Advisors for their review.

III. Permit Applications

We invite comments on the following applications.

A. Endangered Species

Applicant: Minnesota Zoological Gardens, Apple Valley, MN; Permit No. 91440C

The applicant requests a captive-bred wildlife registration under 50 CFR 17.21(g) to enhance the propagation or survival of the species for: Golden lion tamarin (Leonthopithecus rosalia), cotton-top tamarin (Saguinus Oedipus), Asian dhole (Cuon alpinus), Asian wild horse (Equus Przewalski), Amur leopard (Panthera pardus orientalis), Siberian tiger (Panthera tigris altaica), White-cheeked gibbon (Hylobates leucogenys), Ring-tailed lemur (Lemur catta), Malayan tapir (Tapirus indicus), Rothschild's mynah (Leucopsar rothschildi), African penguin (Spheniscus demersus), West African dwarf crocodile (Osteolaemus tetraspis tetraspis), and komodo monitor (Varanus komodoensis). This notification covers activities to be conducted by the applicant over a5-year period.

Applicant: Cord Offermann, Austin, TX; Permit No. 05160B

The applicant requests renewal of a captive-bred wildlife registration under 50 CFR 17.21(g) for the following species to enhance the propagation or survival of the species: Radiated tortoise (Astrochelys radiata), Galapagos giant tortoise (Chelonoidis niger), and spotted pond turtle (Geoclemys hamiltonii). This notification covers activities to be conducted by the applicant over a5-year period.

Applicant: Chicago Zoological Society dba Brookfield Zoo, Brookfield, IL; Permit No. 84889C

The applicant requests renewal of a captive-bred wildlife registration under 50 CFR 17.21(g) for the following species to enhance the propagation or survival of the species: Grevy's zebra (Equus grevyi), Siberian tiger (Panthera tigris altaica), lesser slow loris (Nycticebus pygmaeus), African dwarf crocodile (Osteolaemus tetraspis), and clouded leopard (Neofelis nebulosa). This notification covers activities to be conducted by the applicant over a5-year period.

Applicant: Uno Mas Ranch, Bandera, TX; Permit No. 02149D

The applicant requests a permit authorizing the culling of excess Arabian oryx (Oryx leucoryx) from the captive herd maintained at their facility, to enhance the species' propagation and survival. This notification covers activities to be conducted by the applicant over a 5-year period.

Applicant: Gary Reeder, Flagstaff, AZ; Permit No. 09831D

The applicant requests a permit to import a sport-hunted trophy of one male bontebok (Damaliscus pygargus pygargus) culled from a captive herd maintained under the management program of the Republic of South Africa, for the purpose of enhancing the propagation or survival of the species.

B. Endangered Marine Mammals and Marine Mammals

Applicant: ABR, Inc.—Environmental Research and Services, Fairbanks, AK; Permit No. 75595C

The applicant requests a permit for authorization to conduct aerial and boat surveys of northern sea otters (Enhydra lutris kenyoni) in Kamishak Bay of Cook Inlet. This notification covers activities to be conducted by the applicant over a 5-year period.

Applicant: USGS Alaska Science Center, Anchorage, AK; Permit No. 85339C

The applicant requests a permit for authorization to conduct research on captive polar bears (Ursus maritimus) housed in various U.S. zoological facilities. This notification covers activities to be conducted by the applicant over a 5-year period.

IV. Next Steps

If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations, and the Marine Mammal Protection Act of 1972, as amended (16 U.S.C. 1361 et seq.), and its implementing regulations.

Monica Thomas,
Management Analyst, Branch of Permits, Division of Management Authority.

[FR Doc. 2018-26215 Filed 12-3-18; 8:45 am]

BILLING CODE 4333-15-P